DEPARTMENT OF THE INTERIOR

Bureau of Indian Affairs

San Pasqual Band of Mission Indians Ordinance for the Sale and Consumption of Alcoholic Beverages

AGENCY: Bureau of Indian Affairs, Interior.

ACTION: Notice.

SUMMARY: This notice publishes the San Pasqual Band of Mission Indians Tribal Liquor Control Ordinance. The Ordinance regulates and controls the possession, sale and consumption of liquor at a facility known as the Valley View Casino. The land is located on trust land and this ordinance allows for the sale and consumption of alcoholic beverages within the Casino, for on-premises consumption only. The sale of said alcoholic beverages is in conformity with all applicable laws of the State of California and applicable federal laws. The Ordinance was adopted by Tribal Ordinance No. SP113002-03 and Tribal Resolution No. SCA-SP-04-03, on November 30, 2002 and does not become effective until published in the Federal Register because the failure to comply with the Code may result in criminal charges.

EFFECTIVE DATE: This Code is effective on May 19, 2003.

FOR FURTHER INFORMATION CONTACT: Iris Drew, Southwest Regional Office, Branch of Tribal Government, P.O. Box 26567, Albuquerque, New Mexico 87125-6567; Telephone (505) 346-7592 or Ralph Gonzales, Office of Tribal Services, 1951 Constitution Ave., NW, MS-320-SIB, Washington, DC 20240; Telephone (202) 513-7629.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The San Pasqual Band of Mission Indians adopted Tribal Ordinance No. SP113002-03 and Tribal Council Resolution No. SCA-SP-04-03, on November 30, 2002. The purpose of this ordinance is to govern the consumption and sale of alcoholic beverages at the gaming facility located on the Reservation, known as the Valley View Casino for on-premises consumption only.

This notice is published in accordance with the authority delegated by the Secretary of the Interior to the Assistant Secretary—Indian Affairs by 209 Departmental Manual 8.1.

I certify that Resolution No. SCA-SP-04-03 authorizing the submittal of Tribal Ordinance No. SP113002-03, was duly adopted by the San Pasqual Band of Mission Indians on November 30, 2002.

Dated: May 9, 2003.
Aurene M. Martin,
Assistant Secretary—Indian Affairs.

The San Pasqual Band of Mission Indians Tribal Liquor Control Ordinance reads as follows:

San Pasqual Band of Mission Indians, Ordinance No. SP113002-03, Tribal Liquor Control Ordinance

I. Sale and Consumption of Alcoholic Beverages

The General Council of the San Pasqual Band of Mission Indians (hereinafter General Council), governing body of the San Pasqual Band (hereinafter Tribe), hereby enacts this Ordinance to govern the sale and consumption of alcoholic beverages within casino facilities on Reservation lands.

II. Preamble

1. Title 18, United States Code, Section 1161, provides Indian tribes with authority to enact ordinances governing the consumption and sale of alcoholic beverages on their Reservations, provided such ordinance is certified by the Secretary of the Interior, published in the Federal Register and such activities are in conformity with state law.

2. Pursuant to Article IV, Section 1 of the Constitution and By-Laws of the San Pasqual Band, the General Council is the governing body of the Tribe, with the power to enact ordinances to promote the general welfare and economic advancement of the Tribe and its members.

3. The Tribe is the owner and operator of a gaming facility located on the Reservation known as the Valley View Casino (hereinafter Casino), at which Class II and Class III Gaming is conducted pursuant to the Tribe's Gaming Ordinance and a Compact executed with the State of California on September 10, 1999, ratified by the California Legislature, approved by the Secretary of the Interior on May 5, 2000, and published in the Federal Register on May 16, 2000.

4. The Casino, located on trust land, is an integral and indispensable part of the Tribe's economy, and is intended to provide income to the Tribe and training and employment to its members.

5. The General Council has determined that it is now in the best interest of the Tribe to offer alcoholic beverages for sale and consumption in the Casino.

6. It is the purpose of this Ordinance to set out the terms and conditions under which the sale and consumption of said alcoholic beverages may take place.

III. General Terms

1. The sale and consumption of alcoholic beverages within the Casino, for on-premises consumption only, is hereby authorized.

2. For the purpose of this Ordinance, the term Casino shall mean the Valley View Casino, as currently existing or as expanded in the future, or any other casino facility owned by the Tribe and located on the San Pasqual Indian Reservation.

3. The sale of said alcoholic beverages authorized by this Ordinance shall be in conformity with all applicable laws of the State of California and applicable federal laws, and the sale of said beverages shall be subject to federal excise tax and any fees required by the Federal Bureau of Alcohol, Tobacco & Firearms. This includes but is not limited to the following:

a. No person under the age of 21 years shall consume, acquire or have in his or her possession any alcoholic beverage.

b. No person shall sell any alcoholic beverages to any person under the age of 21.

c. No person shall sell alcoholic beverages to a person apparently under the influence of alcohol.

4. Where there may be a question of a person's right to purchase liquor by reason of his or her age, such person shall be required to present anyone of the following types of identification which shows his or her correct age and bears his or her signature and photograph: (1) Driver's license or identification card issued by any state Department of Motor Vehicles; (2) United States Active Duty Military card; or (3) passport.

5. All liquor sales within the Casino shall be on a cash only basis and no credit shall be extended to any person, organization or entity, except that this provision does not prevent the use of major credit or debit cards.

IV. Posting

This Ordinance shall be conspicuously posted within the Casino at all times it is open to the public.

V. Enforcement

The San Pasqual Gaming Commission may enforce this Ordinance by implementation of monetary fines not to exceed $500 per violation. Prior to any enforcement action, the Gaming Commission shall provide the alleged offender of this Ordinance with at least three (3) days notice of an opportunity to be heard during a specially called meeting. The decision of the Gaming Commission shall be final.

VI. Severability

If any provision or application of this Ordinance is determined by review to be invalid, such adjudication shall not be held to render ineffectual the remaining portions of this title or to render such provisions inapplicable to other persons or circumstances.

VII. Amendment

This Ordinance may only be amended by a majority vote of the General Council.

VIII. Sovereign Immunity

Nothing in this Ordinance in any way limits, alters, restricts or waives the Tribe's sovereign immunity from unconsented suit or action.

IX. Effective Date

This Ordinance shall become effective following its adoption by the General Council, certification by the Secretary of the Interior and publication in the Federal Register.

[FR Doc. 03-12405 Filed 5-16-03; 8:45 am]

BILLING CODE 4310-4J-P